DEPARTMENT OF ENERGY

Federal Energy Regulatory Commission

[Docket No. CP14-517-001]

Golden Pass Terminal, LLC; Notice of Availability of the Environmental Assessment for the Proposed Golden Pass LNG Export Variance Request No. 15 Variance Amendment

The staff of the Federal Energy Regulatory Commission (FERC or Commission) has prepared an environmental assessment (EA) for the Golden Pass LNG Export Variance Request No. 15 Amendment (Amendment), proposed by Golden Pass LNG Terminal LLC (GPLNG) in the above referenced docket.

GPLNG is requesting authority to increase the peak workforce in the Amendment, up to 7,700 workers per day. GPLNG is also requesting the authority to increase traffic volumes to accommodate the additional workforce, and a 7-day-per-week, 24-hour-per-day construction schedule for certain activities during the remaining construction period at the terminal site in Jefferson County, Texas. GPLNG anticipates completing the Golden Pass LNG Export Project in 2025.

The EA assesses the potential environmental effects of the proposed construction modification of the Amendment in accordance with the requirements of the National Environmental Policy Act (NEPA). The FERC staff concludes that approval of the proposed Amendment, with appropriate mitigating measures, would not constitute a major federal action significantly affecting the quality of the human environment.

The EA incorporates by reference the Commission staff's July 2016 Final Environmental Impact Statement issued in Docket No. CP14-517-000 and CP14-518-000 for the Golden Pass LNG Export Project and the Commission's findings and conclusions in its December 21, 2016 Order. The EA addresses the potential environmental effects of the Amendment on socioeconomics, environmental justice, visual resources, air quality, climate change, and noise.

The Commission mailed a copy of the Notice of Availability for this EA to federal, state, and local government representatives and agencies; Native American tribes; potentially affected landowners; and other interested individuals and groups. The EA is only available in electronic format. It may be viewed and downloaded from the FERC's website (www.ferc.gov), on the natural gas environmental documents page (https://www.ferc.gov/industries-data/natural-gas/environment/environmental-documents). In addition, the EA may be accessed by using the eLibrary link on the FERC's website. Click on the eLibrary link (https://elibrary.ferc.gov/eLibrary/search), select “General Search” and enter the docket number in the “Docket Number” field (i.e., CP14-517). Be sure you have selected an appropriate date range. For assistance, please contact FERC Online Support at FercOnlineSupport@ferc.gov or toll free at (866) 208-3676, or for TTY, contact (202) 502-8659.

The EA is not a decision document. It presents Commission staff's independent analysis of the environmental issues for the Commission to consider when addressing the merits of issues raised in this proceeding. Any person wishing to comment on the EA may do so. Your comments should focus on the EA's disclosure and discussion of potential environmental effects, reasonable alternatives, and measures to avoid or lessen environmental impacts. The more specific your comments, the more useful they will be. To ensure that the Commission has the opportunity to consider your comments prior to making its decision on this Amendment, it is important that we receive your comments in Washington, DC on or before 5:00 p.m. Eastern Time on April 21, 2022.

For your convenience, there are three methods you can use to submit your comments to the Commission. The Commission encourages electronic filing of comments and has staff available to assist you at (866) 208-3676 or FercOnlineSupport@ferc.gov. Please carefully follow these instructions so that your comments are properly recorded.

(1) You can file your comments electronically using the eComment feature on the Commission's website (www.ferc.gov) under the link to FERC Online. This is an easy method for submitting brief, text-only comments on a project;

(2) You can also file your comments electronically using the eFiling feature on the Commission's website (www.ferc.gov) under the link to FERC Online. With eFiling, you can provide comments in a variety of formats by attaching them as a file with your submission. New eFiling users must first create an account by clicking on “eRegister.” You must select the type of filing you are making. If you are filing a comment on a particular project, please select “Comment on a Filing”; or

(3) You can file a paper copy of your comments by mailing them to the following address using the U.S. Postal Service. Be sure to reference the project docket number (CP14-517-001) with your submission: Kimberly D. Bose, Secretary, Federal Energy Regulatory Commission, 888 First Street NE, Room 1A, Washington, DC 20426. Submissions sent through carriers other than the U.S. Postal Service must be sent to 12225 Wilkins Avenue, Rockville, Maryland 20852 for processing.

Filing environmental comments will not give you intervenor status, but you do not need intervenor status to have your comments considered. Only intervenors have the right to seek rehearing or judicial review of the Commission's decision. At this point in this proceeding, the timeframe for filing timely intervention requests has expired. Any person seeking to become a party to the proceeding must file a motion to intervene out-of-time pursuant to Rule 214(b)(3) and (d) of the Commission's Rules of Practice and Procedures (18 CFR 385.214(b)(3) and (d)) and show good cause why the time limitation should be waived. Motions to intervene are more fully described at https://www.ferc.gov/ferc-online/ferc-online/how-guides.

Additional information about the Golden Pass LNG Export Variance Request No. 15 Amendment is available from the Commission's Office of External Affairs, at (866) 208-FERC, or on the FERC website (www.ferc.gov) using eLibrary. The eLibrary link also provides access to the texts of formal documents issued by the Commission, such as orders, notices, and rulemakings.

In addition, the Commission offers a free service called eSubscription, which allows you to keep track of all formal issuances and submittals in specific dockets. This can reduce the amount of time you spend researching proceedings by automatically providing you with notification of these filings, document summaries, and direct links to the documents. Go to https://www.ferc.gov/ferc-online/overview to register for eSubscription.

Dated: March 23, 2022.
Kimberly D. Bose,
Secretary.

[FR Doc. 2022-06572 Filed 3-28-22; 8:45 am]

BILLING CODE 6717-01-P